DEPARTMENT OF LABOR

Employment and Training Administration

[TA-W-62,449]

Newburgh Hardwood Co., Inc.

Newburgh, IN; Notice of Negative Determination Regarding Application for Reconsideration

By application dated December 2, 2007, a petitioner requested administrative reconsideration of the Department's negative determination regarding eligibility for workers and former workers of the subject firm to apply for Trade Adjustment Assistance (TAA). The denial notice was signed on November 16, 2007 and published in the Federal Register on December 10, 2007 (72 FR 69711).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, which was filed on behalf of workers at Newburgh Hardwood Co., Inc., Newburgh, Indiana engaged in the hardwood veneer consulting services, was denied based on the findings that the firm did not employ a worker group during the one year prior to the petition filing date, as required by Section 222 of the Trade Act of 1974. A worker group means three or more workers in a firm or appropriate subdivision. The subject firm did not meet this threshold level. The investigation also revealed that the subject firm does not produce an article within the meaning of Section 222(a)(2) of the Act.

In the request for reconsideration the petitioner indicates a number of reasons as to why he should be eligible for TAA.

When assessing eligibility for TAA, the Department makes its determinations based on the requirements as outlined in Section 222 of the Trade Act. In particular, the Department defines an eligible worker “group” as “three or more workers in a firm or an appropriate subdivision thereof.” As subject firm's total worker number was one in the relevant period, the worker does not meet the group eligibility requirements for trade adjustment assistance.

Conclusion

After review of the application and investigative findings, I conclude that there has been no error or misinterpretation of the law or of the facts which would justify reconsideration of the Department of Labor's prior decision. Accordingly, the application is denied.

Signed at Washington, DC, this 7th day of January, 2008.
Elliott S. Kushner,
Certifying Officer, Division of Trade Adjustment Assistance.

[FR Doc. E8-593 Filed 1-14-08; 8:45 am]

BILLING CODE 4510-FN-P